DEPARTMENT OF THE INTERIOR

National Park Service

[NPS-WASO-NAGPRA-NPS0034260; PPWOCRADN0-PCU00RP14.R50000]

Notice of Intent To Repatriate Cultural Items: Longyear Museum of Anthropology, Colgate University, Hamilton, NY

AGENCY: National Park Service, Interior.

ACTION: Notice.

SUMMARY: The Longyear Museum of Anthropology, in consultation with the appropriate Indian Tribes or Native Hawaiian organizations, has determined that the cultural items listed in this notice meet the definition of unassociated funerary objects. Lineal descendants or representatives of any Indian Tribe or Native Hawaiian organization not identified in this notice that wish to claim these cultural items should submit a written request to the Longyear Museum of Anthropology. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Longyear Museum of Anthropology at the address in this notice by September 2, 2022.

FOR FURTHER INFORMATION CONTACT: Rebecca Mendelsohn, Curator of the Longyear Museum of Anthropology and Co-director of University Museums, Colgate University, 13 Oak Drive, Hamilton, NY 13346, telephone (315) 228-6643, email rmendelsohn@colgate.edu.

SUPPLEMENTARY INFORMATION: Notice is here given in accordance with the Native American Graves Protection and Repatriation Act (NAGPRA), 25 U.S.C. 3005, of the intent to repatriate cultural items under the control of the Longyear Museum of Anthropology, Colgate University, Hamilton, NY, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Sometime between 1924 and 1957, two unassociated funerary objects were collected by Herbert Bigford Sr., during his excavations at the Beecher (a.k.a Blowers) (Ond-1) site in Stockbridge, New York. The site file documents the identification of two burial numbers (“Burial 07” and “Burial 12”) from Camp A. The two unassociated funerary objects are two ceramic pottery vessels.

Sometime between 1924 and 1957, one unassociated funerary object was collected by Herbert Bigford Sr., during his excavations at the Cameron (Ond-8) site in Vernon, New York. The site file documents the identification of an unnumbered burial. The one unassociated funerary object is a ceramic pot.

Sometime between 1924 and 1957, two unassociated funerary objects were collected by Herbert Bigford Sr., during his excavations from the Dungey (Msv-6) site in Stockbridge, New York. The site file documents the identification of one unnumbered burial. The two unassociated funerary objects are one metal kettle and one woven material, bark.

Sometime between 1924 and 1957, 94 unassociated funerary objects were collected by Herbert Bigford Sr., during his excavations from the Marshall (Msv-7) site in Stockbridge, New York. The site file documents the identification of four numbered burials (“Burial 02,” “Burial 03,” “Burial 08,” “Burial 11”). The 94 unassociated funerary objects are one horn figurine, one bone figurine, three ceramic pottery vessels, 65 shell and glass beads, one bone carving (faunal), one metal ax head, two glass beads, one metal turtle figurine, one perforated dog canine, and 18 elk teeth.

Sometime between 1924 and 1957, one unassociated funerary object was collected by Herbert Bigford Sr., during his excavations from the Stockbridge (possibly Cameron) (Ond-8) site, in Vernon, New York. The site file documents the identification of one unnumbered burial. The one unassociated funerary object is a bone and metal scraper.

Sometime between 1924 and 1957, 448 unassociated funerary objects were collected by Herbert Bigford Sr., during his excavations from Stone Quarry (a.k.a Quarry) (Msv-4) site in Stockbridge, New York. The site file documents the identification of four burial numbers (“Burial 03,” “Burial 05,” “Burial 07,” and “Burial 09”). The 448 unassociated funerary objects are three ceramic pottery vessels, one metal kettle, one horn figurine, and 443 glass beads.

Sometime between 1924 and 1957, 56 unassociated funerary objects were collected by Herbert Bigford Sr., during his excavations from the Sullivan (Ond-3) site in Stockbridge, New York. The site file documents the identification of one numbered (“Burial 03” [South]) and one unnumbered burial (“Burial camp C”). The 56 unassociated funerary objects are four stone projectile points, one groundhog mandible, one carved mammal bone, one shell pendant, two turtle shell fragments, five shell beads, 40 glass and shell beads, one metal thimble, and one ceramic pottery vessel.

Sometime between 1924 and 1957, 916 unassociated funerary objects were collected by Herbert Bigford Sr., during his excavations from the Thurston (Msv-1) site in Stockbridge, New York. The site file documents the identification of twenty-four burial numbers (“Burial 04,” “Burial 06,” “Burial 08,” “Burial 14,” “Burial 15,” “Burial 16,” “Burial 17,” “Burial 18,” “Burial 19,” “Burial 26,” “Burial 28,” “Burial 29,” “Burial 30,” “Burial 31,” “Burial 32,” ” Burial 33,” “Burial 36,” “Burial 37,” “Burial 38,” “Burial 40,” “Burial 41,” “Burial 49,” “Burial 50,” “Burial 58”) and one or more unnumbered burials. The 916 unassociated funerary objects are 14 ceramic pottery vessels, two ceramic pottery sherds, one stone pipe, one stone celt, two stone projectile points, 68 wolf teeth (six perforated), 13 bear teeth (two perforated, two canines), five bear phalanges, 11 moose teeth (seven perforated), eight elk teeth (two perforated), 26 rodent incisors, one deer tooth, two deer phalanges, one antler, five antler fragments, one antler object, nine antler tines, 15 teeth (one perforated) (faunal), two beaver incisors, one marten skull with jaw, nine marten teeth and bone fragments, one bone (faunal), two mammal bone fragments, two pieces of rodent bone, one bird beak fragment, two worked bone game discs, one bone figurine, one bone effigy comb, one bone comb, one bone pendant, one bone and metal cutting tool, one bone handle, two bone harpoons, four bone punches, two turtle shell rattles, six turtle shell fragments (three pieces along with three additional vials), one shell gorget, 49 shell discs, 286 Wampum, 106 shell beads, two shell crescent beads, 179 glass beads, one metal tube, one metal coach bell, three metal bells, two metal rolled pipes, one metal pipe bowl, five metal chisels, one metal harpoon, one metal spike, two metal awls, one metal kettle, six metal knives, five metal knives and chisels, one iron knife with bone handle, two metal projectile points, one projectile point with shaft fragment, one round metal object, one metal object, one scissors fragment, 31 metal fragments, and one fibrous material.

In 1959, Colgate University purchased the Bigford collection from Winona F. Bigford. Currently, this collection is housed in the Longyear Museum of Anthropology.

The information derived from Herbert Bigford's excavation records, Longyear Museum collection records, scholarly publications, and consultation shows that these cultural items were removed from eight sites within Oneida territory and are unassociated funerary objects. Accordingly, the 1,520 unassociated funerary objects are culturally affiliated with the present-day Oneida Indian Nation (previously listed as Oneida Nation of New York).

Determinations Made by the Longyear Museum of Anthropology

Officials of the Longyear Museum of Anthropology have determined that:

• Pursuant to 25 U.S.C. 3001(3)(B), the 1,520 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Oneida Indian Nation (previously listed as Oneida Nation of New York).

Additional Requestors and Disposition

Lineal descendants or representatives of any Indian Tribe or Native Hawaiian organization not identified in this notice that wish to claim these cultural items should submit a written request with information in support of the claim to Rebecca Mendelsohn, Curator of the Longyear Museum of Anthropology and Co-director of University Museums, Colgate University, 13 Oak Drive, Hamilton, NY 13346, telephone (315) 228-6643, email rmendelsohn@colgate.edu, by September 2, 2022. After that date, if no additional claimants have come forward, transfer of control of the unassociated funerary objects to the Oneida Indian Nation (previously listed as Oneida Nation of New York) may proceed.

The Longyear Museum of Anthropology is responsible for notifying the Oneida Indian Nation (previously listed as Oneida Nation of New York) that this notice has been published.

Dated: July 27, 2022.
Melanie O'Brien,
Manager, National NAGPRA Program.

[FR Doc. 2022-16568 Filed 8-2-22; 8:45 am]

BILLING CODE 4312-52-P